COMMITTEE FOR THE IMPLEMENTATION OF TEXTILE AGREEMENTS

Adjustment of Import Limits for Certain Cotton and Man-Made Fiber Textile Products Produced or Manufactured in Pakistan

May 18, 2004.

AGENCY: Committee for the Implementation of Textile Agreements (CITA).

ACTION: Issuing a directive to the Commissioner, Bureau of Customs and Border Protection adjusting limits.

EFFECTIVE DATE: May 25, 2004.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the Bureau of Customs and Border Protection website at http://www.cbp.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The current limits for certain categories are being adjusted for carryover, the recrediting of unused carryforward, swing, and special swing.

A description of the textile and apparel categories in terms of HTS numbers is available in the CORRELATION: Textile and Apparel Categories with the Harmonized Tariff Schedule of the United States (see Federal Register notice 69 FR 4926, published on February 2, 2004). Also see 68 FR 68599, published on December 9, 2003.

James C. Leonard III,
Chairman, Committee for the Implementation of Textile Agreements.

Committee for the Implementation of Textile Agreements

May 18, 2004.

Commissioner,

Bureau of Customs and Border Protection, Washington, DC 20229.

Dear Commissioner: This directive amends, but does not cancel, the directive issued to you on December 3, 2003, by the Chairman, Committee for the Implementation of Textile Agreements. That directive concerns imports of certain cotton and man-made fiber textile products produced or manufactured in Pakistan and exported during the twelve-month period which began on January 1, 2004 and extends through December 31, 2004.

Effective on May 25, 2004, you are directed to adjust the limits for the following categories, as provided for under the Uruguay Round Agreement on Textiles and Clothing:

Category | Twelve-month restraint limit ¹
Specific limits |
219 | 16,684,302 square meters.
226/313 | 210,286,304 square meters.
237 | 485,752 dozen.
239pt. ² | 2,906,309 kilograms.
314 | 12,259,021 square meters.
315 | 146,872,240 square meters.
317/617 | 65,877,924 square meters.
331pt./631pt. ³ | 1,281,606 dozen pairs.
334/634 | 686,974 dozen.
335/635 | 830,721 dozen.
336/636 | 1,084,925 dozen.
338 | 8,620,945 dozen.
339 | 2,995,080 dozen.
340/640 | 1,667,228 dozen of which not more than 625,209 dozen shall be in Categories 340-D/640-D ⁴.
341/641 | 1,918,508 dozen.
342/642 | 757,690 dozen.
347/348 | 1,671,615 dozen.
351/651 | 930,459 dozen.
352/652 | 2,022,739 dozen.
359-C/659-C ⁵ | 1,968,990 kilograms.
360 | 10,012,491 numbers.
361 | 11,642,429 numbers.
363 | 74,329,303 numbers.
369-S ⁶ | 1,427,190 kilograms.
613/614 | 46,034,344 square meters.
615 | 48,972,697 square meters.
625/626/627/628/629 | 117,945,866 square meters of which not more than 75,309,073 square meters shall be in Category 625; not more than 75,309,073 square meters shall be in Category 626; not more than 75,309,073 square meters shall be in Category 627; not more than 15,581,189 square meters shall be in Category 628; and not more than 75,309,073 square meters shall be in Category 629.
638/639 | 1,197,103 dozen.
647/648 | 2,458,801 dozen.
666-P ⁷ | 1,348,363 kilograms.
666-S ⁸ | 7,138,388 kilograms.
¹ The limits have not been adjusted to account for any imports exported after December 31, 2003.
² Category 239pt.: only HTS number 6209.20.5040 (diapers).
³ Category 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510; Category 631pt.: all HTS numbers except 6116.10.1730, 6116.10.4820, 6116.10.5520, 6116.10.7520, 6116.93.8800, 6116.93.9400, 6116.99.4800, 6116.99.5400 and 6116.99.9530.
⁴ Category 340-D: only HTS numbers 6205.20.2015, 6205.20.2020, 6205.20.2025 and 6205.20.2030; Category 640-D: only HTS numbers 6205.30.2010, 6205.30.2020, 6205.30.2030, 6205.30.2040, 6205.90.3030 and 6205.90.4030.
⁵ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010; Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
⁶ Category 369-S: only HTS number 6307.10.2005.
⁷ Category 666-P: only HTS numbers 6302.22.1010, 6302.22.1020, 6302.22.2010, 6302.32.1010, 6302.32.1020, 6302.32.2010 and 6302.32.2020.
⁸ Category 666-S: only HTS numbers 6302.22.1030, 6302.22.1040, 6302.22.2020, 6302.32.1030, 6302.32.1040, 6302.32.2030 and 6302.32.2040.

The Committee for the Implementation of Textile Agreements has determined that these actions fall within the foreign affairs exception of the rulemaking provisions of 5 U.S.C. 553(a)(1).

Sincerely,

James C. Leonard III,

Chairman, Committee for the Implementation of Textile Agreements.

[FR Doc.04-11603 Filed 5-21-04 8:45 am]

BILLING CODE 3510-DR-S